DEPARTMENT OF THE INTERIOR

Office of the Secretary

Meeting of Advisory Committee to the Interagency Task Force To Improve Hydroelectric Licensing Processes

AGENCY: Office of the Secretary, Department of the Interior.

ACTION: Notice of meeting.

SUMMARY: This notice informs the public of final meeting of the Advisory Committee to the Interagency Task Force to Improve Hydroelectric Licensing Processes on October 17, 2000, at the Department of Energy. Interested members of the public can attend the meeting.

DATES: October 17, 2000; 9:30 a.m.-3 p.m.

ADDRESSES: Program Review Center, Room 8E-089; United States Department of Energy, 1000 Independence Ave. NW., Washington, DC 20585.

FOR FURTHER INFORMATION CONTACT: Larry Mansueti, Office of Power Technologies, Office of Energy Efficiency and Renewable Energy, U.S. Department of Energy, (202) 586-2588.

SUPPLEMENTARY INFORMATION: In accordance with the Federal Advisory Committee Act, this notice advises interested persons that the Advisory Committee to the Interagency Task Force to Improve Hydroelectric Licensing Processes will meet for the final time on October 17, 2000, at the Department of Energy. The purpose of the meeting is to:

(1) Update Committee members on the current activities of the Interagency Task Force (ITF);

(2) Review and discuss the Interagency Task Force Working Groups' products on: (i) Endangered Species Act; (ii) Federal Power Act; and (iii) Adaptive Management; and

(3) Provide a retrospective and review of the entire body of work of the advisory committee.

The Secretary of the Interior and the Chairman, Federal Energy Regulatory Commission, with the concurrence of ITF members, established the Advisory Committee to provide a forum for non-Federal entities to review and provide comments on the deliberations of the ITF. Interested parties are invited to attend the meeting and will be given an opportunity to provide comments.

You should inform Security at the visitors desk that you are attending a meeting hosted by the Office of Biopower and Hydropower Technologies at (202) 586-5188 or (202) 586-9275. After calling either of these numbers to approve your admittance, Security will issue you a visitor's pass and direct you to the Program Review Center, Room 8E089.

Tom Iseman,
Special Assistant to the Designated Federal Officer.

[FR Doc. 00-25483 Filed 10-3-00; 8:45 am]

BILLING CODE 4310-RK-M